DEPARTMENT OF AGRICULTURE

Animal and Plant Health Inspection Service

7 CFR Part 318

[Docket No. 01-042-3]

Interstate Movement of Gardenia From Hawaii

AGENCY: Animal and Plant Health Inspection Service, USDA.

ACTION: Final rule; correction.

SUMMARY: In final rule published in the Federal Register on February 5, 2003, we amended the Hawaiian fruits and vegetables regulations to provide for the movement of cut blooms of gardenia from Hawaii. The final rule contained errors in the SUPPLEMENTARY INFORMATION section and in the rule portion. This document corrects those errors.

EFFECTIVE DATE: March 7, 2003.

FOR FURTHER INFORMATION CONTACT: Ms. Susan G. Dublinski, Import/Export Specialist, Phytosanitary Issues Management, PPQ, APHIS, 4700 River Road Unit 140, Riverdale, MD 20737-1236; (301) 734-4312.

SUPPLEMENTARY INFORMATION: In a final rule published in the Federal Register on February 5, 2003 (68 FR 5800-5802, Docket No. 01-042-2), we amended the Hawaiian fruits and vegetables regulations in 7 CFR part 318 to provide for the interstate movement of cut blooms of gardenia from Hawaii under certain conditions. The movement of cut blooms of gardenia had been prohibited due to gardenia's status as a host of green scale (Coccus viridis), also known as green coffee scale, a destructive plant pest. In the Supplementary Information section of the final rule, we incorrectly identified green scale as Coccus viridus. Therefore, we are correcting the error in the SUPPLEMENTARY INFORMATION section of the final rule by replacing Coccus viridus with Coccus viridis.

Under the rule, gardenia growers in Hawaii who wish to move cut blooms of gardenia interstate from Hawaii would be able to do so if the gardenias were produced in a growing area determined by an inspector to be free of green scale and to meet other requirements, including the establishment of a buffer area around the gardenia production area. This buffer area must be determined free of all green scale host plants listed in § 318.13-4j(b).

Ginger (Alpinia purpurata) and Pluchea indica (a weed introduced into Hawaii) are known green scale host plants and, consequently, are prohibited in the buffer area. In the rule portion of the final rule, we incorrectly identified ginger as “Alpinia purpurata” and Pluchea indica as “Pluto indicia.” Therefore, in order for the regulations to accurately identify these specific hosts, we are correcting § 318.13-4j(b) in the final rule by replacing Alpina purpurata with Alpinia purpurata and Pluto indicia with Pluchea indica.

§ 318.13-4; [Corrected]

In FR Doc. 03-2683, published on February 5, 2003 (68 FR 5800-5802), make the following corrections:

1. On page 5801, in the first column, in line 31, correct “(Coccus viridus)” to read “(Coccus viridis)”.

2. On page 5802, in the third column, in § 318.13-4j, paragraph (b), correct “(Alpina purpurata)” to read “(Alpinia purpurata)” and correct “Pluto indicia” to read “Pluchea indica”.

Done in Washington, DC, this 7th day of March, 2003.
Kevin Shea,
Acting Administrator, Animal and Plant Health Inspection Service.

[FR Doc. 03-6058 Filed 3-12-03; 8:45 am]

BILLING CODE 3410-34-P